DEPARTMENT OF STATE

[Public Notice #3834]

Notice of Meetings; United States International Telecommunication Advisory Committee, Telecommunication Sector

The Department of State announces a meeting of the U.S. International Telecommunication Advisory Committee. The purpose of the Committee is to advise the Department on policy and technical issues with respect to the International Telecommunication Union (ITU).

The ITAC will meet from 9:30 to 12:30 on Tuesday. January 3, 2002 to continue preparations for the ITU Plenipotentiary Conference (PP02). This meeting will be held in the IRAC Room (Room 1605) of the Department of Commerce, 14th and Constitution Avenue, Washington, DC. Individuals from the private sector who desire to attend should advise the State Department (jillsonad@state.gov) by name and affiliation. The ITAC PP02 meeting previously scheduled for January 15 has been cancelled.

The ITAC will meet as the ITAC-T from 9:30 to noon on Wednesday, January 9, 2002 to debrief the November 2001 Telecommunication Sector Advisory Group (TSAG) meeting and to start preparations for the next TSAG in June 2002. This meeting will be held at the Telecommunications Industry Association, 1300 Pennsylvania Avenue, Suite 350, Washington, DC.

The ITAC will meet as US Study Group B from about noon to 4:00 on Friday, January 11, 2002 to prepare for meetings of ITU Study Groups 13 and 16. This meeting will be held at the Hyatt Regency Savannah, 2 West Bay Street, Savannah, GA 31401.

The ITAC will meet as US Study Group D from 9:30 to 3:30 on Wednesday, January 16, 2002 to prepare for meetings of ITU Study Groups 16 and 17. This meeting will be held at the Telecommunications Industry Association, 1300 Pennsylvania Avenue, Suite 350, Washington, DC. If preparations for SG17 are not completed at this meeting, they will be continued via email from February 6-13, 2002. Directions for joining the Study Group D email reflector for this e-mail meeting can be provided by the Secretariat (see below).

Members of the general public may attend these meetings. Directions to meeting location and actual room assignments may be determined by calling the ITAC Secretariat at 202 647-0965 or e-mail to minardje@state.gov.

Attendees may join in the discussions, subject to the instructions of the Chair. Admission of participants will be limited to seating available.

Dated: December 20, 2001.
Doreen F. McGirr,
Director, Telecommunications Development, U.S. Department of State.

[FR Doc. 01-31970 Filed 12-27-01; 8:45 am]

BILLING CODE 4710-45-P